DEPARTMENT OF ENERGY

Federal Energy Regulatory Commission

Combined Notice of Filings #1

Take notice that the Commission received the following Complaints and Compliance filings in EL Dockets:

Docket Numbers: EL21-103-000.

Applicants: SOO Green HVDC Link ProjectCo, LLC v. PJM Interconnection, L.L.C.

Description: Complaint of SOO Green HVDC Link ProjectCo, LLC v. PJM Interconnection, L.L.C.

Filed Date: 9/21/21.

Accession Number: 20210921-5137.

Comment Date: 5 p.m. ET 10/12/21.

Docket Numbers: EL21-104-000.

Applicants: Carlos H. Diaz-Rivera.

Description: Petition for Enforcement of Carlos H. Diaz-Rivera.

Filed Date: 9/22/21.

Accession Number: 20210922-5133.

Comment Date: 5 p.m. ET 10/12/21.

Docket Numbers: EL21-105-000.

Applicants: George R. Cotter.

Description: Complaint of George R Cotter, ESQ on FERC Notice of Proposed Rule Cybersecurity Incentives dated December 17, 2020.

Filed Date: 9/10/21.

Accession Number: 20210910-5156.

Comment Date: 5 p.m. ET 10/14/21.

Take notice that the Commission received the following electric rate filings:

Docket Numbers: ER15-190-016; ER18-1343-011; ER10-2034-007.

Applicants: Duke Energy Indiana, Inc., Carolina Solar Power, LLC, Duke Energy Renewable Services, LLC.

Description: Third Amendment to December 18, 2020 Triennial Market Power Analysis for Central Region of Duke Companies.

Filed Date: 9/23/21.

Accession Number: 20210923-5141.

Comment Date: 5 p.m. ET 10/7/21.

Docket Numbers: ER21-486-002.

Applicants: New York Independent System Operator, Inc.

Description: Compliance filing: NYISO Notice of Effective Date for TCC Credit requirement to be effective 10/12/2021.

Filed Date: 9/24/21.

Accession Number: 20210924-5094.

Comment Date: 5 p.m. ET 10/15/21.

Docket Numbers: ER21-2652-001.

Applicants: Caddo Wind, LLC.

Description: Tariff Amendment: Supplement to Application for Market-Based Rate Authorization to be effective 10/11/2021.

Filed Date: 9/23/21.

Accession Number: 20210923-5134.

Comment Date: 5 p.m. ET 10/14/21.

Docket Numbers: ER21-2767-001.

Applicants: Skipjack Solar Center, LLC.

Description: Tariff Amendment: Skipjack Solar Center, LLC MBR Supplement to be effective 10/1/2021.

Filed Date: 9/23/21.

Accession Number: 20210923-5133.

Comment Date: 5 p.m. ET 10/14/21.

Docket Numbers: ER21-2928-000.

Applicants: PJM Interconnection, L.L.C.

Description: § 205(d) Rate Filing: Original ISA No. 6182; Queue No. AD2-163 to be effective 8/25/2021.

Filed Date: 9/24/21.

Accession Number: 20210924-5014.

Comment Date: 5 p.m. ET 10/15/21.

Docket Numbers: ER21-2929-000.

Applicants: Southwest Power Pool, Inc.

Description: § 205(d) Rate Filing: Submission of Revisions to Western Joint Dispatch Agreements to be effective 10/1/2021.

Filed Date: 9/24/21.

Accession Number: 20210924-5041.

Comment Date: 5 p.m. ET 10/15/21.

Docket Numbers: ER21-2930-000.

Applicants: Northern States Power Company, a Minnesota corporation.

Description: Tariff Amendment: 2021-09-24 NSP-MMPA-Meter Upgrade-CIAC-677-NOC to be effective 9/25/2021.

Filed Date: 9/24/21.

Accession Number: 20210924-5068.

Comment Date: 5 p.m. ET 10/15/21.

Docket Numbers: ER21-2931-000.

Applicants: Midcontinent Independent System Operator, Inc.

Description: § 205(d) Rate Filing: 2021-09-24_SA 3170 Crossett Solar—EAI 1st Rev GIA (J680) to be effective 9/7/2021.

Filed Date: 9/24/21.

Accession Number: 20210924-5072.

Comment Date: 5 p.m. ET 10/15/21.

Docket Numbers: ER21-2932-000.

Applicants: California Independent System Operator Corporation.

Description: § 205(d) Rate Filing: 2021-09-24 Transferred Frequency Response Agmt—BPA to be effective 12/1/2021.

Filed Date: 9/24/21.

Accession Number: 20210924-5087.

Comment Date: 5 p.m. ET 10/15/21.

Docket Numbers: ER21-2933-000.

Applicants: Mid-Atlantic Interstate Transmission, LLC, PJM Interconnection, L.L.C.

Description: § 205(d) Rate Filing: Mid-Atlantic Interstate Transmission, LLC submits tariff filing per 35.13(a)(2)(iii: MAIT submits One ECSA, SA No. 6049 to be effective 11/24/2021.

Filed Date: 9/24/21.

Accession Number: 20210924-5112.

Comment Date: 5 p.m. ET 10/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2021.
Debbie-Anne A. Reese,
Deputy Secretary.

[FR Doc. 2021-21298 Filed 9-29-21; 8:45 am]

BILLING CODE 6717-01-P